NUCLEAR REGULATORY COMMISSION

Docket No. 50-289

Amergen Energy Company, LLC; Notice of Withdrawal of Application for Amendment to Facility Operating License

The U.S. Nuclear Regulatory Commission (the Commission) has granted the request of AmerGen Energy Company, LLC, (the licensee) to withdraw the October 19, 1998, application, as supplemented by letters dated February 16, and September 2, 1999, filed by GPU Nuclear Inc., (the then-licensee) for proposed amendment to Facility Operating License No. DPR-50 for the Three Mile Island Nuclear Station, Unit No. 1, located in Dauphin County, Pa.

The proposed amendment requested approval of a revised reactor coolant maximum allowable dose equivalent iodine 131 specific activity level of 1.0 microcuries/gram.

The Commission had previously issued a Notice of Consideration of Issuance of Amendment published in the Federal Register on November 18, 1998 (63 FR 64118). However, by letter dated December 29, 1999, the licensee withdrew the proposed change request.

For further details with respect to this action, see the application for amendment dated October 19, 1998, as supplemented February 16, and September 2, 1999, and the licensee's letter dated December 29, 1999, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 7th day of February 2000.
For the Nuclear Regulatory Commission.
Timothy G. Colburn,
Sr. Project Manager, Section 1, Project Directorate I, Division of Licensing Project Management, Office of Nuclear Reactor Regulation.

[FR Doc. 00-3190 Filed 2-10-00; 8:45 am]

BILLING CODE 7590-01-P